DEPARTMENT OF THE INTERIOR

Bureau of Indian Affairs

Land Acquisitions; Enterprise Rancheria of Maidu Indians of California

AGENCY: Bureau of Indian Affairs, Interior.

ACTION: Notice of Final Agency Determination; Correction.

SUMMARY: This document contains a correction to the land description contained in the notice regarding the final agency determination to acquire approximately 40 acres of land into trust for gaming purposes for the Enterprise Rancheria of Maidu Indians of California, which published on Monday, December 3, 2012, 77 FR 71612.

FOR FURTHER INFORMATION CONTACT: Paula L. Hart, Director, Office of Indian Gaming, Bureau of Indian Affairs, MS-3657 MIB, 1849 C Street NW., Washington, DC 20240; Telephone (202) 219-4066.

SUPPLEMENTARY INFORMATION: As published, the land description in the December 3, 2012, notice contains an error. On page 71612 of the December 3, 2012, Federal Register, in the first column, beginning on line 56 and continuing through to the second column, line 26, correct to read as follows:

A portion of the East half of Section 22, Township 14 North, Range 4 East, M.D.B.&M., described as follows:

Commence at the quarter section corner common to said Section 22 and Section 15, Township 14 North, Range 4 East, M.D.B.&M., and being marked by a brass monument stamped LS3341 in a monument well as shown on Record of Survey No. 2000-15 filed in Book 72 of Maps, Page 34, Yuba County Records; thence South 00°28′11″ East along the line dividing said Section 22 in to East and West halves 2650.73 feet to a brass monument stamped LS3341 in a monument well as shown on said Record of Survey No. 2000-15 and marking the center of said Section 22; thence North 89°31′24″ East 65.00 feet to a point on the East right-of-way line of Forty Mile Road; thence North 00°28′11″ West along said East right-of-way line of Forty Mile Road 45.53 feet to the point of beginning; thence from said point of beginning continue along said East right-of-way line of Forty Mile Road the following courses and distances: North 00°28′11″ West 1133.70 feet, thence North 05°14′27″ East 50.25 feet; thence North 00°28′11″ West 136.91 feet; thence leaving said East right-of-way line of Forty Mile Road North 87°00′10″ East 1315.48 feet; thence South 00°28′11″ East 1320.48 feet; thence South 87°59′10″ West 1320.48 feet to the point of beginning.

The above-described parcel is referred to as Yuba County Assessor's Parcel Number 014-280-095 (portion) containing approximately 40.00 acres, more or less.

Dated: December 26, 2012.
Lawrence S. Roberts,
Acting Assistant Secretary—Indian Affairs.

[FR Doc. 2012-31523 Filed 12-31-12; 8:45 am]

BILLING CODE 4310-4N-P